DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than May 22, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Healthy Start Evaluation and Quality Assurance OMB No. 0915-0338—Revision

Abstract: The National Healthy Start Program, funded through the Health Resources and Services Administration's (HRSA's) Maternal and Child Health Bureau (MCHB), has the goal of reducing disparities in infant mortality and adverse perinatal outcomes. The program began as a demonstration project with 15 grantees in 1991 and has expanded over the past 2 decades to 105 grantees serving 196 communities across 39 states. Healthy Start grantees operate in communities with rates of infant mortality at least 1.5 times the U.S. national average and high rates for other adverse perinatal outcomes. These communities are geographically, racially, ethnically, and linguistically diverse low-income areas. Healthy Start covers services during the perinatal period (before, during, after pregnancy) and follows the woman and infant through 2 years after the end of the pregnancy. The next round of funding represents a transformation of the program framework from nine service and systems core components to five approaches. The five approaches are as follows: (1) Improving women's health; (2) promoting quality services; (3) strengthening family resilience; (4) achieving collective impact; and (5) increasing accountability through quality assurance, performance monitoring, and evaluation.

MCHB seeks to implement a uniform set of data elements for monitoring and conduct a mixed-methods evaluation to assess the effectiveness of the program on individual, organizational, and community-level outcomes. Data collection instruments will include a Preconception, Pregnancy, and Parenting Information Form; National Healthy Start Program Survey; Community Action Network Survey; Healthy Start Site Visit Protocol; and Healthy Start Participant Focus Group Protocol.

Need and Proposed Use of the Information: The purpose of the data collection instruments will be to obtain consistent information across all grantees about Healthy Start and its outcomes for purposes of monitoring, and in-depth information for 15 Healthy Start communities and 15 comparison communities to support a rigorous evaluation design. The data will be used to: (1) Conduct ongoing performance monitoring of the program; (2) provide credible and rigorous evidence of program effect on outcomes; (3) assess the relative contribution of the five program approaches to individual and community-level outcomes; (4) meet program needs for accountability, programmatic decision-making, and ongoing quality assurance; and (5) strengthen the evidence-base, and identify best and promising practices for the program to support sustainability, replication, and dissemination of the program.

Likely Respondents: Respondents include pregnant women and women of reproductive age who are served by the Healthy Start program (monitoring) and sampled postpartum women from 15 unfunded organizations in comparison communities (evaluation) for the Preconception, Pregnancy, and Parenting Information Form; project directors and staff for the National Healthy Start Program Survey; representatives from partner organizations for the Community Action Network Survey; program staff, providers, and partners for the Healthy Start Site Visit Protocol; and program participants for the Healthy Start Participant Focus Group Protocol.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Preconception, Pregnancy, and Parenting Information Form | 40,675 | 1 | 40,675 | 0.50 | 20,338
National Healthy Start Program Web Survey | 88 | 1 | 88 | 2.00 | 176
CAN member Web Survey | 225 | 1 | 225 | 0.75 | 169
Healthy Start Site Visit Protocol | 15 | 1 | 15 | 6.00 | 90
Healthy Start Participant Focus Group Protocol | 180 | 1 | 180 | 1.00 | 180
Total | 41,183 |  | 41,183 |  | 20,953

Dated: April 15, 2014.
Bahar Niakan,
Director, Division of Policy and Information Coordination.

[FR Doc. 2014-09193 Filed 4-21-14; 8:45 am]

BILLING CODE 4165-15-P